DEPARTMENT OF COMMERCE

National Oceanic and Atmospheric Administration

RIN 0648-XK26

Marine Mammals; File No. 13430

AGENCY: National Marine Fisheries Service (NMFS), National Oceanic and Atmospheric Administration (NOAA), Commerce.

ACTION: Notice; receipt of application.

SUMMARY: Notice is hereby given that the NMFS National Marine Mammal Laboratory, (Responsible Party: Dr. John Bengtson, Director), Seattle, WA, has applied for a permit to conduct research on marine mammals.

DATES: Written, telefaxed, or e-mail comments must be received on or before October 8, 2008.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northwest Region, NMFS, 7600 Sand Point Way NE, BIN C15700, Bldg. 1, Seattle, WA 98115-0700; phone (206)526-6150; fax (206)526-6426.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13430.

FOR FURTHER INFORMATION CONTACT: Tammy Adams or Kate Swails, (301)713-2289.

SUPPLEMENTARY INFORMATION: The subject permit is requested under the authority of the Marine Mammal Protection Act of 1972, as amended (MMPA; 16 U.S.C. 1361 et seq.), and the regulations governing the taking and importing of marine mammals (50 CFR part 216).

The applicant proposes to conduct research on Pacific harbor seals (Phoca vitulina), California sea lions (Zalophus californianus), and northern elephant seals (Mirounga angustirostris) within coastal waters and on pinniped rookeries and haul outs of Washington and Oregon. Research activities would include aerial, vessel, and ground surveys; capture for collection of tissue samples, attachment of scientific instruments and application of marks (flipper tags, brands, etc.); and underwater playback experiments. The purpose of the research is to investigate: (1) abundance and distribution of harbor seals; (2) food habits and foraging ecology of harbor seals; (3) the ecology of contaminants, environmental toxins and infectious pathogens in harbor seals; (4) harbor seal life history parameters; (5) population substructure in harbor seals in Washington and Oregon; (6) abundance, distribution and health of California sea lions in Washington and Oregon; (7) California sea lion food habits and predation of threatened, endangered, and/or depleted fish stocks in Washington and Oregon; and (8) the abundance, distribution and health of northern elephant seals. The objective of the research is to provide information necessary for stock assessments and for management, including management of marine mammal predation on threatened and endangered salmon. The permit would be valid for five years and would authorize level B and level A harassment, including research-related mortality of limited numbers of each species. Please refer to the table in the application for the numbers of animals proposed for taking, and the locations and manner of such taking.

In compliance with the National Environmental Policy Act of 1969 (42 U.S.C. 4321 et seq.), a draft environmental assessment (EA) has been prepared to examine whether significant environmental impacts could result from issuance of the proposed scientific research permit. Based on the analyses in the EA, it is NMFS initial determination that issuance of the permit would not significantly impact the quality of the human environment and that preparation of an environmental impact statement is not required.

Concurrent with the publication of this notice in the Federal Register, NMFS is forwarding copies of the application to the Marine Mammal Commission and its Committee of Scientific Advisors.

Dated: September 2, 2008.
P. Michael Payne,
Chief, Permits, Conservation and Education Division, Office of Protected Resources, National Marine Fisheries Service.

[FR Doc. E8-20773 Filed 9-5-08; 8:45 am]

BILLING CODE 3510-22-S